DEPARTMENT OF THE INTERIOR

Fish and Wildlife Service

[FWS-R4-R-2009-N122; 40136-1265-0000-S3]

Tensas River National Wildlife Refuge, Franklin, Madison, and Tensas Parishes, LA

AGENCY: Fish and Wildlife Service, Interior.

ACTION: Notice of availability: final comprehensive conservation plan and finding of no significant impact.

SUMMARY: We, the Fish and Wildlife Service (Service), announce the availability of our final comprehensive conservation plan (CCP) and finding of no significant impact (FONSI) for the environmental assessment for Tensas River National Wildlife Refuge (NWR). In the final CCP, we describe how we will manage this refuge for the next 15 years.

ADDRESSES: You may obtain a copy of the CCP by writing to: Ms. Kelly Purkey, Tensas River National Wildlife Refuge, 2312 Quebec Road, Tallulah, LA 71282. You may also access and download the document from the Service's Web site: http://southeast.fws.gov/planning.

FOR FURTHER INFORMATION CONTACT: Ms. Kelly Purkey; telephone: 318/574-2664; fax: 318/574-1624; e-mail: kelly_purkey@fws.gov.

SUPPLEMENTARY INFORMATION

Introduction

With this notice, we finalize the CCP process for Tensas River NWR. We started this process through a notice in the Federal Register on September 8, 2006 (71 FR 53131). For more about the process, see that notice.

Tensas River NWR consists of 74,622 acres in fee title and 195 acres in easement. It is located in the Tensas River Basin in northeast Louisiana, approximately 60 miles southeast of Monroe, Louisiana, and 25 miles southwest of Vicksburg, Mississippi. The refuge area encompasses portions of Madison, Tensas, and Franklin Parishes. The office/visitor center and maintenance facilities on the refuge are approximately 12 miles southwest of Tallulah, Louisiana.

In an effort to conserve the largest privately owned tract of bottomland hardwoods remaining in the Mississippi Delta, Congress authorized the Secretary of the Interior to establish the Tensas River NWR by Public Law 96-285 on June 28, 1980. Tensas River NWR was established for various purposes, including:

“For the preservation and development of the environmental resources * * * to conserve the diversity of fish and wildlife and their habitat * * * for the conservation and development of wildlife and natural resources, the development of outdoor recreation opportunities, and interpretative education,” and “to give special consideration to management of the timber on the refuge to ensure continued commercial production and harvest compatible with the purposes for which the refuge is established and the needs of fish and wildlife which depend upon the dynamic and diversified hardwood forest” (94 Stat. 595, dated June 28, 1980);

“For the development, advancement, management, conservation, and protection of fish and wildlife resources” [16 U.S.C. 742f(a)(4)] “for the benefit of the United States Fish and Wildlife Service, in performing its activities and services. Such acceptance may be subject to the terms of any restrictive or affirmative covenant, or condition of servitude” [16 U.S.C. 742f(b)(1) (Fish and Wildlife Act of 1956)];

“For conservation purposes” [7 U.S.C. 2002 (Consolidated Farm and Rural Development Act)];

“To conserve (A) fish or wildlife which are listed as endangered species or threatened species * * * or (B) plants” [16 U.S.C. 1534 (Endangered Species Act of 1973)].

We announce our decision and the availability of the final CCP and FONSI for Tensas River NWR in accordance with the National Environmental Policy Act (NEPA) [40 CFR 1506.6(b)] requirements. We completed a thorough analysis of impacts on the human environment, which we included in the draft comprehensive conservation plan and environmental assessment (Draft CCP/EA). The CCP will guide us in managing and administering Tensas River NWR for the next 15 years. Alternative C is the foundation for the CCP.

The compatibility determinations for wildlife observation and photography, environmental education and interpretation, fishing, field trials, boating, bottomland hardwood forest management, trapping, all-terrain vehicle use, cooperative farming, research studies, horse/mule special use, and fire management are available in the CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

Approximately 200 copies of the Draft CCP/EA were made available for a 30-day public review period as announced in the Federal Register on February 4, 2009 (74 FR 6053). Ten respondents, consisting of the Service, the Louisiana Department of Wildlife and Fisheries, the Louisiana Department of Environmental Quality, and local citizens, submitted written comments by mail or e-mail.

Selected Alternative

After considering the comments we received, and based on the professional judgment of the planning team, we selected Alternative C to implement the CCP. The primary focus of the CCP is to optimize the biological potential of historical habitats by utilizing management actions which emphasize natural ecological processes to foster habitat functions and wildlife populations. We will enhance the biological program by inventorying and monitoring so that adaptive management can be implemented primarily for migratory birds, but other species of wildlife will benefit as well.

We will manage bottomland hardwood forests based on an inventory that defines current conditions and that can be conducted in a logical and feasible manner. Bottomlands will be managed to increase opening of the canopy cover and to increase structural and vegetation diversity. Water control structures and pumping capability will be improved to enhance moist-soil and cropland management for the benefit of wintering waterfowl. Invasive species of plants will be mapped and protocols for control will be established with the addition of a forester. Partnerships will continue to be fostered for several biological programs, hunting regulations, law enforcement issues, and research projects.

Forest management, reforestation, and resource protection at Tensas River NWR will be intensified. We will provide a full-time law enforcement officer, an equipment operator, a maintenance mechanic, and a wildlife technician. We will develop and begin to implement a Cultural Resources Management Plan.

Within 3 years, we will develop a Visitor Services Plan to be used in expanding public use facilities and opportunities on the refuge. This step-down management plan will provide overall long-term direction and guidance in developing and running a larger public use program on the refuge. We will increase opportunities for visitors by improving and/or adding facilities, such as photo blinds, observation sites, and trails, as well as improving access and roads.

The CCP will increase bottomland hardwood forest habitat restoration and management, improve general refuge and visitor center access, meet the recovery goals of the threatened Louisiana black bear, integrate management with regional watershed/ecosystem plans, improve resident and migratory wildlife species quality and abundance, and improve opportunities for wildlife-dependent public use.

Authority

This notice is published under the authority of the National Wildlife Refuge System Improvement Act of 1997, Public Law 105-57.

Dated: July 20, 2009.
Cynthia K. Dohner,
Acting Regional Director.

[FR Doc. E9-29530 Filed 12-10-09; 8:45 am]

BILLING CODE 4310-55-P